DEPARTMENT OF HEALTH AND HUMAN SERVICES

Administration for Children and Families

Submission for OMB Review; Comment Request

Title: Identifying Promising Temporary Assistance for Needy Families (TANF) Diversion Practices.

OMB No.: New Collection.

Description: The Identifying Promising TANF Diversion Practices study is designed to understand States' and local offices' TANF diversion policies and practices. Since the passage of the Personal Responsibility and Work Opportunity Reconciliation Act of 1996, a majority of States have implemented formal diversion programs that provide assistance to families and/or impose program requirements on them when they apply for TANF in order to reduce the number of families who enroll in the program. These programs can send a strong signal to applicants that TANF is a work-oriented program and/or prevent applicants' need to use time-limited welfare benefits. States have implemented three types of formal diversion programs: (1) Lump-sum payment programs targeted to work-ready applicants to help them through short-term crises; (2) “up-front” program requirements, such as mandatory participation in a program orientation or job search as a condition of eligibility; and (3) hybrid programs that provide short-term cash assistance and impose up-front requirements. The Administration for Children and Families has contracted with Mathematica Policy Research, Inc. to learn more about States' implementation of these programs and to identify best practices.

The study consists of a survey of States and in-depth visits to local sites. The survey of States will be administered in four stages: (1) A State survey to the TANF director in all 50 States and the District of Columbia to obtain a profile of States' diversion policies and practices; (2) a semi-structured, one-hour followup telephone interview with the State TANF director or designee in an estimated 35 States with current diversion programs to gather additional information about these programs; (3) a semi-structured, 20-minute telephone interview with the State TANF director or designee in other States without current diversion programs to learn about future plans for diversion programs; and (4) a semi-structured, one-hour telephone interview with local TANF administrators from 30 selected local offices in States that provide local flexibility in administering diversion policies to learn about their practices.

To further understand the local implementation of diversion policies and practices, the study includes site visits to two local offices in each of three States with promising diversion programs. In each office, interviews will be conducted with one TANF administrator, an average of two supervisors or mid-level management staff members, an average of three line staff members, and an average of two staff members from partner organizations. Site visitors also will observe selected activities, such as intake, orientation, and job search.

Respondents: State TANF directors and administrators and local TANF administrators and line staff.

Annual Burden Estimates
Instrument | Number of respondents | Number of responses per respondent | Average burden hours per response | Total burden hours
Survey of States
Stage 1: State Survey | 51 | 1 | 0.333333 | 17.0
Stage 2: Interview State TANF Director with Diversion Program | 35 | 1 | 1.0 | 35.0
Stage 3: Interview State TANF Director without Diversion Program | 16 | 1 | 0.3 | 4.8
Stage 4: Interview Local TANF Administrator | 30 | 1 | 1.0 | 30.0
Site Visit Protocols
Administrator | 6 | 1 | 1.5 | 9.0
Supervisor | 12 | 1 | 1.0 | 12.0
Line Staff | 18 | 1 | 1.0 | 18.0
Partner Organization | 12 | 1 | 1.0 | 12.0
Observation | 12 | 1 |  |
Estimated Total Annual Burden Hours: |  |  |  | 137.8

Additional Information: Copies of the proposed collection may be obtained by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after the publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 7, 2007.
Robert Sargis,
Reports Clearance Officer.

[FR Doc. 07-632 Filed 2-12-07; 8:45 am]

BILLING CODE 4184-01-M